FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than October 11, 2022.

A. Federal Reserve Bank of Kansas City (Jeffrey Imgarten, Assistant Vice President) 1 Memorial Drive, Kansas City, Missouri 64198-0001:

1. The Stanley L. Clifton Family Trust, Benjamin Clifton, Andrew Clifton, all of Orchard, Nebraska; and Jennifer Frey, Norfolk, Nebraska; all individually and as co-trustees, to join the Clifton Family Group, a group acting in concert, to retain voting shares of Orchard Bancorp, and thereby indirectly retain voting shares of Orchard Bank, both of Orchard, Nebraska.

B. Federal Reserve Bank of Dallas (Karen Smith, Director, Applications) 2200 North Pearl Street, Dallas, Texas 75201-2272:

1. Lynn Ann Stovall, Louise, Texas; Eric Martin Stovall, Marathon, Texas; Megan Lynn Stovall, El Campo, Texas; and Guy F. Stovall, IV, Louise, Texas; all individually, and as trustee and/or co-trustee of the following trusts: The Lynn Ann Stovall and Guy F. Stovall, III Family Trust, Lynn Ann Stovall, Megan Lynn Stovall, and Guy F. Stovall, IV, as co-trustees; The Linda Joy Stovall Family Trust, and The Guy F. Stovall, Jr. and Kay Stovall Trust, Louise, Texas; Guy F. Stovall, IV, Eric Martin Stovall, and Guy F. Stovall, III, El Campo, Texas; as co-trustees of both trusts; The David Wesley Stovall Irrevocable Trust and The Eric Martin Stovall Irrevocable Trust, Louise, Texas; Guy F. Stovall, III, and Guy F. Stovall, IV, as co-trustees of both trusts; The Megan Lynn Stovall Trust No. 1 and The Guy F. Stovall, IV Trust No. 1, El Campo, Texas; Megan Lynn Stovall, as trustee of both trusts; The Guy F. Stovall, III and Lynn Ann Stovall Family Trust, Louise, Texas; Guy F. Stovall, III, as trustee; and The Mark Stovall Reifslager Irrevocable Trust, Louise, Texas; Megan Lynn Stovall, and Guy F. Stovall, IV, as co-trustees of both trusts; to join the Stovall Control Group, a group acting in concert, to retain voting shares of NewFirst Financial Group, Inc., and thereby indirectly retain voting shares of NewFirst National Bank, both of El Campo, Texas.

2. The Brian D. Campbell Family Trust, Brian D. Campbell, individually and as trustee, the BDC 2021 Family Trust No. 1, Brian Douglas Campbell, Jr., and Donna Miramon Campbell, individually and as co-trustees, and Anna Kathryne Kronenberger, all of Baton Rouge, Louisiana; Catherine Campbell Niemi, Covington, Louisiana; Judith L. Campbell, St. Francisville, Louisiana; Christen Campbell Siegel, Stephen Siegel, Elizabeth Gentry Brann, all of Houston, Texas; Sarah Lauren Campbell Hughey, Judith Campbell Jones, both of Vestavia, Alabama; Richard A. Campbell III, Pelham, Alabama; Dale C. Fairbanks Family Trust, Dale C. Fairbanks, individually and as trustee, both of Anacortes, Washington; Alma Dale Campbell Brown, New York, New York; Helene Meredith St. Clair, Hood River, Oregon; and the Central Louisiana Capital Corporation ESOP, Vidalia, Louisiana; William Gilmore Fairbanks, Pensacola, Florida; and Brian D. Campbell, as co-trustees; as the Campbell/Campbell Jr.,/Fairbanks Control Group, a group acting in concert, to retain voting shares of Central Louisiana Capital Corporation, and thereby indirectly retain voting shares of Delta Bank, both of Vidalia, Louisiana.

Board of Governors of the Federal Reserve System.
Michele Taylor Fennell,
Deputy Associate Secretary of the Board.

[FR Doc. 2022-20740 Filed 9-23-22; 8:45 am]

BILLING CODE P